DEPARTMENT OF ENERGY

Federal Energy Regulatory Commission

Combined Notice of Filings #2

December 1, 2005.

Take notice that the Commission received the following electric rate filings:

Docket Numbers: ER02-2550-002.

Applicants: Tenaska-Oxy Power Services, L.P.

Description: Tenaska-Oxy Power Services, LP submits revised replacement page 2 to the 11/08/05 Triennial Updated Market Analysis.

Filed Date: 11/22/2005

Accession Number: 20051125-0173.

Comment Date: 5:00 p.m. eastern time on Tuesday, December 13, 2005

Docket Numbers: ER05-128-001.

Applicants: Duke Energy South Bay, LLC.

Description: Duke Energy South Bay, LLC submits in compliance of FERC's 5/06/05 Order a Refund Report.

Filed Date: 11/21/2005.

Accession Number: 20051121-5135.

Comment Date: 5:00 p.m. eastern time on Monday, December 12, 2005.

Docket Numbers: ER05-1165-002.

Applicants: South Carolina Electric & Gas Company.

Description: Compliance Refund Report of South Carolina Electric and Gas Co in compliance to Commission 10/21/05 Order.

Filed Date: 11/22/2005.

Accession Number: 20051125-0172.

Comment Date: 5:00 p.m. eastern time on Tuesday, December 13, 2005.

Docket Numbers: ER05-1165-003.

Applicants: South Carolina Electric & Gas Company.

Description: South Carolina Electric and Gas Co submits the Relay Equipment Agreement l with the City of Orangeburg, SC Department of Public Utilities to comply with FERC's Order 614.

Filed Date: 11/22/2005.

Accession Number: 20051125-0181.

Comment Date: 5:00 p.m. eastern time on Tuesday, December 13, 2005.

Docket Numbers: ER05-1276-001.

Applicants: Southern Company Services, Inc.

Description: Southern Company Services, Inc on behalf of Alabama Power Co's responds to FERC's request for additional information on the Revision No. 10 to Rate Schedule MUN-1 of FERC Electric Tariff, Original Volume No.1.

Filed Date: 11/22/2005.

Accession Number: 20051129-0041.

Comment Date: 5:00 p.m. eastern time on Tuesday, December 13, 2005.

Docket Numbers: ER06-148-000.

Applicants: Virginia Electric and Power Company.

Description: Virginia Electric and Power Co's notice of withdrawal of its 11/2/05 Reactive Power Revenue Requirement Filing and request to terminate proceeding.

Filed Date: 11/15/2005.

Accession Number: 20051117-0132.

Comment Date: 5:00 p.m. eastern time on Tuesday, December 08, 2005.

Docket Numbers: ER06-184-001.

Applicants: Midwest Independent Transmission System Operator, Inc.

Description: Midwest Independent Transmission System Operator, Inc and American Transmission Company LLC, submit an amended filing to the 11/9/05 filing of the notice of cancellation for the Stratford Water and Electric Utility Service Agreement Nos. 49 & 50.

Filed Date: 11/22/2005.

Accession Number: 20051129-0135.

Comment Date: 5:00 p.m. eastern time on Tuesday, December 13, 2005.

Docket Numbers: ER06-234-000.

Applicants: Deutsche Bank AG, London Branch.

Description: Deutsche Bank AG, acting through its London Branch submits an application for market-based rate authority, for order accepting initial rate schedule for filing, waiving regulations, & granting blanket approvals.

Filed Date: 11/22/2005.

Accession Number: 20051125-0111.

Comment Date: 5:00 p.m. eastern time on Tuesday, December 13, 2005.

Docket Numbers: ER06-236-000; ER06-237-000; ER06-238-000; ER06-239-000; ER06-240-000; ER06-241-000; ER06-242-000.

Applicants: Avista Corporation; Idaho Power Company; NorthWestern Corporation; PacifiCorp; Portland General Electric Company; Puget Sound Energy, Inc.; Sierra Pacific Power Company.

Description: Northwest Power Pool with seven jurisdictional members submit FERC Rate Schedule No. 55 for Reserve Energy Service.

Filed Date: 11/22/2005.

Accession Number: 20051125-0169.

Comment Date: 5:00 p.m. eastern time on Tuesday, December 13, 2005.

Docket Numbers: ER06-243-000.

Applicants: Direct Electric, Inc.

Description: Direct Electric, Inc submits notice of cancellation of Rate Schedule FERC No. 1 effective 11/14/05.

Filed Date: 11/22/2005.

Accession Number: 20051129-0040.

Comment Date: 5:00 p.m. eastern time on Tuesday, December 13, 2005.

Docket Numbers: ER98-511-005; ER97-4345-017; EL05-107-000.

Applicants: Oklahoma Gas and Electric Company and OGE Energy Resources, Inc.

Description: Oklahoma Gas & Electric Co & OGE Energy Resources, Inc inform that they will adopt FERC's default rate mechanism for sales of one week or less & will load the sink in OG&E control area pursuant to FERC's 6/7/05 Order.

Filed Date: 08/08/2005.

Accession Number: 20050811-0004.

Comment Date: 5:00 p.m. eastern time on Thursday, December 22, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E5-7088 Filed 12-8-05; 8:45 am]

BILLING CODE 6717-01-P